DEPARTMENT OF ENERGY

Federal Energy Regulatory Commission

Combined Notice of Filings #1

Take notice that the Commission received the following exempt wholesale generator filings:

Docket Numbers: EG22-50-000.

Applicants: Sapphire Sky Wind Energy LLC.

Description: Notice of Self-Certification of Exempt Wholesale Generator Status of Sapphire Sky Wind Energy LLC.

Filed Date: 2/4/22.

Accession Number: 20220204-5039.

Comment Date: 5 p.m. ET 2/25/22.

Take notice that the Commission received the following electric rate filings:

Docket Numbers: ER21-2215-000.

Applicants: Peoples Natural Gas.

Description: Refund Report: Peoples Natural Gas Refund Report to be effective N/A.

Filed Date: 9/20/21.

Accession Number: 20210920-5043.

Comment Date: 5 p.m. ET 2/25/22.

Docket Numbers: ER22-331-001.

Applicants: Southwest Power Pool, Inc.

Description: Tariff Amendment: Deficiency Response—Review of Base Plan Allocation Methodology to be effective 1/3/2022.

Filed Date: 2/4/22.

Accession Number: 20220204-5043.

Comment Date: 5 p.m. ET 2/25/22.

Docket Numbers: ER22-358-001.

Applicants: Public Service Electric and Gas Company, PJM Interconnection, L.L.C.

Description: Tariff Amendment: Public Service Electric and Gas Company submits tariff filing per 35.17(b): PJM Transmission Owners' Resp. to FERC Staff's Deficiency Letter in ER22-358 to be effective 1/10/2022.

Filed Date: 2/4/22.

Accession Number: 20220204-5121.

Comment Date: 5 p.m. ET 2/25/22.

Docket Numbers: ER22-660-001.

Applicants: PJM Interconnection, L.L.C.

Description: Tariff Amendment: Errata to ISA/ICSA SA Nos. 6235/6236, Queue No. AE2-342 in Docket No. ER22-660 to be effective 11/15/2021.

Filed Date: 2/4/22.

Accession Number: 20220204-5146.

Comment Date: 5 p.m. ET 2/25/22.

Docket Numbers: ER22-992-000.

Applicants: Southern California Edison Company.

Description: Tariff Amendment: LGIA Menifee Power Bank TOT934 SA No 278 to be effective 2/28/2022.

Filed Date: 2/4/22.

Accession Number: 20220204-5063.

Comment Date: 5 p.m. ET 2/25/22.

Docket Numbers: ER22-993-000.

Applicants: Mid-Atlantic Interstate Transmission, LLC, PJM Interconnection, L.L.C.

Description: § 205(d) Rate Filing: Mid-Atlantic Interstate Transmission, LLC submits tariff filing per 35.13(a)(2)(iii: MAIT submits SA No. 6038 Perks ECSA to be effective 2/5/2022.

Filed Date: 2/4/22.

Accession Number: 20220204-5070.

Comment Date: 5 p.m. ET 2/25/22.

Docket Numbers: ER22-994-000.

Applicants: Idaho Power Company.

Description: § 205(d) Rate Filing: OATT Depreciation Rate Update Filing to be effective 1/1/2022.

Filed Date: 2/4/22.

Accession Number: 20220204-5109.

Comment Date: 5 p.m. ET 2/25/22.

Docket Numbers: ER22-995-000.

Applicants: Midcontinent Independent System Operator, Inc.

Description: § 205(d) Rate Filing: 2022-02-04_Long Range Transmission Plan (LRTP) Cost Allocation to be effective 5/19/2022.

Filed Date: 2/4/22.

Accession Number: 20220204-5118.

Comment Date: 5 p.m. ET 3/7/22.

Docket Numbers: ER22-996-000.

Applicants: Duke Energy Progress, LLC.

Description: Tariff Amendment: DEP-City of Camden RS 378 Termination to be effective 4/6/2022.

Filed Date: 2/4/22.

Accession Number: 20220204-5147.

Comment Date: 5 p.m. ET 2/25/22.

Docket Numbers: ER22-997-000.

Applicants: Midcontinent Independent System Operator, Inc.

Description: § 205(d) Rate Filing: 2022-02-04_Attachment FF-4_Consumers Energy Removal to be effective 4/6/2022.

Filed Date: 2/4/22.

Accession Number: 20220204-5154.

Comment Date: 5 p.m. ET 2/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2022.
Debbie-Anne A. Reese,
Deputy Secretary.

[FR Doc. 2022-02848 Filed 2-9-22; 8:45 am]

BILLING CODE 6717-01-P